RAILROAD RETIREMENT BOARD

Proposed Collection; Comment Request

SUMMARY: In accordance with the requirement of Section 3506(c)(2)(A) of the Paperwork Reduction Act of 1995 which provides opportunity for public comment or new or revised data collection, the Railroad Retirement Board (RRB) will publish periodic summaries of proposed data collections.

Comments are invited on: (a) whether the proposed information collection is necessary for the proper performance of the functions of the agency, including whether the information has practical utility; (b) the accuracy of the RRB's estimate of the burden of the collection of the information; (c) ways to enhance the quality, utility, and clarity of the information to be collected; and (d) ways to minimize the burden related to the collection of information on respondents, including the use of automated collection techniques or other forms of information technology.

Title and purpose of information collection: Application and Claim for Unemployment Benefits and Employment Service, OMB 3220-0022.

Section 2 of the Railroad Unemployment Insurance Act (RUIA), provides unemployment benefits for qualified railroad employees. These benefits are generally payable for each day of unemployment in excess of four during a registration period (normally a period of 14 days).

Section 12 of the RUIA provides that the RRB establish, maintain and operate free employment facilities directed toward the reemployment of railroad employees. The procedures for applying for the unemployment benefits and employment service and for registering and claiming the benefits are prescribed in 20 CFR part 325.

RRB Form UI-1, Application for Unemployment Benefits and Employment Service, is completed by a claimant for unemployment benefits once in a benefit year, at the time of first registration. Completion of Form UI-1 also registers an unemployment claimant for the RRB's employment service. Minor non-burden impacting editorial changes are being proposed to Form UI-1.

The RRB also utilizes Form UI-3, Claim for Unemployment Benefits, for use in claiming unemployment benefits for days of unemployment in a particular registration period, normally a period of 14 days. The RRB proposes a minor editorial change to UI-3.

Also, in accordance with the Government Paperwork Elimination Act (GPEA) of 1998, which directed Federal agencies to develop electronic service delivery instruments as an alternative to traditional paper-based processes, the RRB is proposing the implementation of an Internet equivalent of manual Form UI-1, Application for Unemployment Benefits and Employment Service as an additional to the information collection.

Completion of Forms UI-1 and UI-3 is required to obtain or retain benefits. The number of responses required of each claimant varies, depending on their period of unemployment. The RRB estimates that approximately 11,200 Form UI-1's (9700 paper and 1,500 Internet) are filed annually. Completion time for the paper UI-1 is estimated at 10 minutes. Completion time for the Internet equivalent version UI-1 is estimated at 14 minutes. The RRB estimates that approximately 67,500 Form UI-3's are filed annually. Completion time is estimated at 6 minutes.

ADDITIONAL INFORMATION OR COMMENTS: To request more information or to obtain a copy of the information collection justification, forms, and/or supporting material, please call the RRB Clearance Officer at (312) 751-3363. Comments regarding the information collection should be addressed to Ronald J. Hodapp, Railroad Retirement Board, 844 N. Rush Street, Chicago, Illinois 60611-2092. Written comments should be received within 60 days of the notice.

Chuck Mierzwa,
Clearance Officer.

[FR Doc. 03-4159 Filed 2-20-03; 8:45 am]

BILLING CODE 7905-01-M